ENVIRONMENTAL PROTECTION AGENCY

[FRL-8791-9]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2263.02; NSPS for Petroleum Refineries for which Construction, Reconstruction, or Modification Commenced after May 14, 2007 (Final Rule); in 40 CFR part 60, subpart Ja; was approved 03/11/2009; OMB Number 2060-0602; expires 12/31/2011.

EPA ICR Number 2303.02; NESHAP for Ferroalloys Production Area Source Facilities (Final Rule); in 40 CFR part 63, subpart YYYYYY; was approved 03/23/2009; OMB Number 2060-0625; expires 03/31/2012.

EPA ICR Number 1983.05; NESHAP for Carbon Black, Ethylene, Cyanide, and Spandex (Renewal); in 40 CFR part 63, subpart YY; was approved 03/23/2009; OMB Number 2060-0489; expires 03/31/2012.

EPA ICR Number 0229.19; National Pollutant Discharge Elimination System (NPDES) Program (Renewal); in 40 CFR 122.21, 122.26, 122.41, 122.42, 122.44, 122.45, 122.47, 122.48, 122.62, 122.63, 123.21-123.29, 123.35, 123.43-123.45, 123.62-123.64, 124.5, 124.53, 123.54, 131.1, 131.5, 131.21, part 132, 403.17, 403.18, part 423, part 430, part 434, part 435, part 439, 465.03, 466.03, 467.03 and part 501; was approved 03/30/2009; OMB Number 2040-0004; expires 03/31/2012.

EPA ICR Number 0270.43; Public Water System Supervision Program (Renewal); in 40 CFR parts 141 and 142; was approved 03/30/2009; OMB Number 2040-0090; expires 03/31/2012.

Short Term Extension of Expiration Date

EPA ICR Number 1911.02; Data Acquisition for Anticipated Residue and Percent of Crop Treated; a short term extension of the expiration date was granted by OMB on 03/23/2009; OMB Number 2070-0164; expires 06/30/2009.

EPA ICR Number 1504.05; Data Generation for Pesticide Reregistration; a short term extension of the expiration date was granted by OMB on 03/23/2009; OMB Number 2070-0107; expires 06/30/2009.

EPA ICR Number 0922.07; Data Call-ins for the Special Review and Registration Review Programs; a short term extension of the expiration date was granted by OMB on 03/23/2009; OMB Number 2070-0057; expires 06/30/2009.

EPA ICR Number 2097.05; The National Primary Drinking Water Regulations; Long Term 2 Enhanced Surface Water Treatment Rule; a short term extension of the expiration date was granted by OMB on 03/31/2009; OMB Number 2040-0266; expires 06/30/2009.

EPA ICR Number 1426.09; EPA Worker Protection Standards for Hazardous Waste Operations and Emergency Response; a short term extension of the expiration date was granted by OMB on 03/30/2009; OMB Number 2050-0105; expires 06/30/2009.

OMB Comments Filed

EPA ICR Number 2336.01; Turbidity Monitoring Requirements for Construction Sites Regulated by the Effluent Limitations Guidelines and Standards for the Construction and Development Point Source Category (Proposed Rule); on 03/27/2009, OMB filed comment.

Dated: April 9, 2009.
Robert Gunter,
Acting Director, Collection Strategies Division.

[FR Doc. E9-8669 Filed 4-14-09; 8:45 am]

BILLING CODE 6560-50-P